INTERNATIONAL TRADE COMMISSION

[Investigation No. 337-TA-918]

Certain Toner Cartridges and Components Thereof; Institution of Investigation Pursuant to 19 U.S.C. 1337

AGENCY: U.S. International Trade Commission.

ACTION: Notice.

SUMMARY: Notice is hereby given that a complaint was filed with the U.S. International Trade Commission on May 7, 2014, under section 337 of the Tariff Act of 1930, as amended, 19 U.S.C. 1337, on behalf of Canon Inc. of Japan; Canon U.S.A., Inc. of Melville, New York; and Canon Virginia, Inc. of Newport News, Virginia. A letter supplementing the complaint was filed on May 14, 2014. The complaint alleges violations of section 337 based upon the importation into the United States, the sale for importation, and the sale within the United States after importation of certain toner cartridges and components thereof by reason of infringement of certain claims of U.S. Patent No. 8,280,278 (“the '278 patent”); U.S. Patent No. 8,630,564 (“the '564 patent”); U.S. Patent No. 8,682,215 (“the '215 patent”); U.S. Patent No. 8,676,090 (“the '090 patent”); U.S. Patent No. 8,369,744 (“the '744 patent”); U.S. Patent No. 8,565,640 (“the '640 patent”); U.S. Patent No. 8,676,085 (“the '085 patent”); U.S. Patent No. 8,135,304 (“the '304 patent”); and U.S. Patent No. 8,688,008 (“the '008 patent”). The complaint further alleges that an industry in the United States exists as required by subsection (a)(2) of section 337.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2014).

Scope of Investigation: Having considered the complaint, the U.S. International Trade Commission, on June 6, 2014, ordered that—

(1) Pursuant to subsection (b) of section 337 of the Tariff Act of 1930, as amended, an investigation be instituted to determine whether there is a violation of subsection (a)(1)(B) of section 337 in the importation into the United States, the sale for importation, or the sale within the United States after importation of certain toner cartridges and components thereof by reason of infringement of one or more of claims 160, 165, and 166 of the '278 patent; claims 171, 176, 179, 181, 189, 192, and 200 of the '564 patent; claims 23, 26, 27, and 29 of the '215 patent; claims 1-4 of the '090 patent; claim 1 of the '744 patent; claim 1 of the '640 patent; claims 1-4 of the '085 patent; claim 1 of the '304 patent; and claims 1, 7-9, 11, 12, and 34 of the '008 patent, and whether an industry in the United States exists as required by subsection (a)(2) of section 337;

(2) For the purpose of the investigation so instituted, the following are hereby named as parties upon which this notice of investigation shall be served:

(a) The complainants are:

Canon Inc., 30-2, Shimomaruko 3-chome, Ohta-ku, Tokyo 146-8501, Japan.

Canon U.S.A., Inc., One Canon Park, Melville, New York 11747.

Canon Virginia, Inc., 12000 Canon Boulevard, Newport News, Virginia 23606.

(b) The respondents are the following entities alleged to be in violation of section 337, and are the parties upon which the complaint is to be served:

Ninestar Image Tech Limited, No. 3883, Zhuhai Avenue, Xiangzhou District, Zhuhai Guangdong, China 519060.

Zhuhai Seine Technology Co., Ltd., No. 3883, Zhuhai Avenue, Xiangzhou District, Zhuhai Guangdong, China 519060.

Ninestar Technology Company, Ltd., 17950 East Ajax Circle, City of Industry, California 91748.

Seine Tech (USA) Co., Ltd., 19805 Harrison Avenue, Walnut, California 91789.

Seine Image Int'l Co., Ltd., 9/F Unit 18, New Commerce Centre, No. 9 On Lai Street, Shatin, Hong Kong.

Ninestar Image Tech, Ltd., 9/F Unit 18, New Commerce Centre, No. 9 On Lai Street, Shatin, Hong Kong.

Seine Image (USA) Co., Ltd., 1142 South Diamond Bar Boulevard, #466, Diamond Bar, California 91765.

Nano Pacific Corporation, 191 Beacon Street, South San Francisco, California 94080.

Aster Graphics, Inc., 540 S. Melrose Street, Placentia, California 92870.

Jiangxi Yibo E-tech Co., Ltd., No. 756 Feiyu Avenue, Xinyu Hi-Tech Industry Development Area, Xinyu City, Jiangxi, 338004 China.

Aster Graphics Co., Ltd., No. C71, 2/F, Building E, Phase 1, Parklane Centre, Agile Garden, Sanxiang, Zhongshan, Guangdong, China 528463.

Print-Rite Holdings Ltd., Unit 8, 10/F, Block A, MP Industrial Centre, No. 18 Ka Yip Street, Chai Wan, Hong Kong.

Print-Rite N.A., Inc., 341 Mason Road, La Vergne, Tennessee 37086.

Union Technology Int'l (M.C.O.) Co. Ltd., 14H Nam Kwong Building, 223-225 Avenida Dr. Rodrigo Rodrigues, Macau, SAR, China.

Print-Rite Unicorn Image Products Co. Ltd., No. 32 Pingbeiyi Road, Nanping Technology Industry Park, Nanping Town, Xiangzhou District, Zhuhai, Guangdong, 519060 China.

Innotex Precision Ltd., Unit 6, 10/F, Block A, MP Industrial Centre, No. 18 Ka Yip Street, Chai Wan, Hong Kong.

International Laser Group, Inc., 6022 Variel Avenue, Woodland Hills, California 91367.

Shenzhen ASTA Official Consumable Co., Ltd., E Building, Huilongpu Industrial Area, AI'xin Road, Longgang District, Shenzhen, China.

Acecom, Inc.—San Antonio, d/b/a InkSell.com, 14034 Nacogdoches Road, San Antonio, Texas 78247.

ACM Technologies, Inc., 2535 Research Drive, Corona, California 92882.

American Internet Holdings, LLC, 268 Greenwood Avenue, Midland Park, New Jersey 07432.

The Supplies Guys, LLC, 268 Greenwood Avenue, Midland Park, New Jersey 07432.

Do It Wiser LLC, d/b/a Image Toner, 4255 Trotters Way #84, Alpharetta, Georgia 30004.

Grand Image Inc., d/b/a Grand Image USA, d/b/a INK4S.com, 19909 Harrison Avenue, City of Industry, California 91789.

Green Project, Inc., 15335 Don Julian Road, Hacienda Heights, California 91745.

Ink Technologies Printer Supplies, LLC, 7600 McEwen Road, Dayton, Ohio 45459.

Katun Corporation, 10951 Bush Lake Road, Bloomington, Minnesota 55438.

LD Products, Inc., 3700 Cover Street, Long Beach, California 90808.

Linkyo Corp., 629 South 6th Avenue, La Puente, California 91746.

Nectron International, Inc., 725 Park Two Drive, Sugar Land, Texas 77478.

Online Tech Stores, LLC, d/b/a SuppliesOutlet.com, d/b/a SuppliesWholesalers.com, d/b/a OnlineTechStores.com, 500 Damonte Ranch Parkway, Suite 944, Reno, Nevada 89521.

Printronic Corporation, d/b/a Printronic.com, d/b/a InkSmile.com, 1621 East Saint Andrew Place, Santa Ana, California 92705

Zinyaw LLC, d/b/a TonerPirate.com, 14781 Memorial Drive, Suite 1359, Houston, Texas 77079.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 6, 2014.
Lisa R. Barton,
Secretary to the Commission.

[FR Doc. 2014-13651 Filed 6-11-14; 8:45 am]

BILLING CODE 7020-02-P